DEPARTMENT OF THE INTERIOR

Fish and Wildlife Service

[FWS-R8-ES-2009-N163; 80221-1113-0000-D3]

Endangered and Threatened Wildlife and Plants; Draft Post-Delisting Monitoring Plan for the Brown Pelican (Pelecanus occidentalis)

AGENCY: U.S. Fish and Wildlife Service, Interior.

ACTION: Notice of document availability for review and comment.

SUMMARY: We, the U.S. Fish and Wildlife Service (Service), announce the availability of the draft post-delisting monitoring plan for the brown pelican (Pelecanus occidentalis) (draft PDM Plan, Draft Monitoring Plan). The Endangered Species Act (Act) requires that we implement a system, in cooperation with the States, to monitor effectively, for at least 5 years, the status of all species that have been recovered and no longer need the protection afforded by the Act (i.e. delisted). The brown pelican has been proposed to be removed from the Federal List of Threatened and Endangered Wildlife and Plants due to recovery. If the brown pelican is removed from the list, we propose to monitor the status of the brown pelican over a 10-year period from 2010 through 2020, through annual evaluation of information collected by the States of California, Texas, and Louisiana; the Commonwealth of Puerto Rico and the U.S. Virgin Islands in the West Indies; Mexico; other partners; and the Service.

DATES: To ensure consideration, please send your written comments by October 30, 2009.

ADDRESSES: An electronic copy of the Draft Monitoring Plan will be available on the Internet at http://www.fws.gov/Ventura. Requests for copies of the Draft Monitoring Plan and submission of written comments or materials regarding the plan should be addressed to Field Supervisor, U.S. Fish and Wildlife Service, Ventura Fish and Wildlife Office, 2493 Portola Road, Suite B, Ventura, CA 93003. The Draft Monitoring Plan, reference materials, and submitted comments regarding the Draft Monitoring Plan will also be available for inspection, by appointment, during normal business hours at the above address. You may also submit electronic comments on the Draft Monitoring Plan to: FW8pelicanmonitoring@fws.gov.

FOR FURTHER INFORMATION CONTACT: Michael McCrary, Listing and Recovery Coordinator, at the above address or at telephone 805-644-1766, extension 372. If you use a telecommunications device for the deaf (TDD), call the Federal Information Relay Service (FIRS) at 800-877-8339.

SUPPLEMENTARY INFORMATION:

Background

On February 20, 2008, we published a proposed rule to remove the brown pelican from the Federal List of Endangered and Threatened Wildlife (List) due to recovery (73 FR 9408), with a 60-day comment period that closed on April 21, 2008. Our proposed rule concluded that the primary reason for severe declines in the brown pelican population in the United States, and for designating the species as endangered, was DDT contamination in the 1960s and early 1970s. Banning of DDT, along with other recovery actions, has resulted in increased population numbers and reproductive success, and information now indicates that major threats to brown pelicans have been reduced, managed, or eliminated. We are currently reviewing comments we received on the proposed rule and preparing responses as appropriate.

Section 4(g) of the Act requires the Secretary of the Interior to implement a system in cooperation with the States to monitor effectively for not less than 5 years the status of any species that is delisted due to recovery. The intent of this monitoring is to determine whether the species should be proposed for relisting under the normal listing procedures, relisted under the emergency listing authority of the Act, or kept off of the List because it remains neither threatened nor endangered.

Brown pelican populations currently listed under the Act breed along the coast of the Gulf of Mexico from Mississippi to Texas; along the Pacific Coast from southern California, south through Mexico into Central and South America; and in the West Indies (Shields 2002, pp. 2-4). Additional information about the brown pelican's biology and life history can be found in the Birds of North America, No. 609 (Shields 2002, pp. 1-36).

The brown pelican draft PDM Plan was developed in cooperation with the State resources agencies of California, Louisiana, and Texas and the Commonwealth of Puerto Rico. If the brown pelican is removed from the Federal List of Threatened and Endangered Wildlife and Plants, our Ventura Fish and Wildlife Office will be the lead office responsible for this monitoring effort, and will coordinate all phases of implementation of the plan and ensure that monitoring requirements outlined within the plan are accomplished. The draft PDM Plan proposes to conduct monitoring annually for at least 10 years. Post-delisting monitoring of the brown pelican will consist primarily of annual collection of information on colony occupancy and number of nesting pairs. Information on contaminants will also be collected at 5-year intervals beginning with the first year.

Post-delisting monitoring of the brown pelican will be focused along the Gulf coast of Louisiana and Texas; the Commonwealth of Puerto Rico and the U.S. Virgin Islands in the West Indies; the Pacific coast of southern California and Baja California, Mexico; and the Gulf of California. We will be monitoring these areas because: (1) Existing population data are available for these areas for comparison with data to be collected during post-delisting monitoring; (2) these populations were among some of the largest (outside of those in Peru) prior to listing (73 FR 9408); and (3) these populations suffered the greatest declines in productivity and abundance that led to the listing of the species. Additionally, we have no evidence that brown pelicans outside these areas ever suffered declines in response to persistent organic pesticides. We are also interested in any information that may suggest a new or increasing threat that may impact the brown pelican in other parts of its range proposed for delisting under the Act but not covered by this Draft Monitoring Plan.

Request for Public Comments

We solicit written comments on the Draft Monitoring Plan described in this notice. All comments received by the date specified above will be considered in development of a final post-delisting monitoring plan for the brown pelican. We will take into consideration the relevant comments, suggestions, or objections that we receive by the comment due date indicated above in the DATES section. These comments, suggestions, or objections, and any additional information we receive, may lead us to adopt a final PDM Plan that differs from this draft PDM Plan. Comments merely stating support or opposition to the draft PDM Plan without providing supporting data are not as helpful. We particularly seek comments concerning:

(1) Information and data on contaminants from brown pelicans or other seabirds near pelican nesting colonies throughout the range of the brown pelican that may affect our selection of the areas to be monitored;

(2) The appropriateness of assaying contaminants in brown pelicans and/or their eggs every 5 years and reasons, if any, for increasing or decreasing the frequency of analysis; and

(3) The appropriateness of the areas selected for monitoring and reasons, if any, for modifying the survey areas, including information related to the number of nesting pairs and population trends of brown pelicans outside the survey areas in the Draft Monitoring Plan.

Public Availability of Comments

Before including your address, phone number, electronic mail address, or other personal identifying information in your comment, you should be aware that your entire document—including your personal identifying information—may be publicly available at any time. While you can ask us in your comments to withhold your personal identifying information from public review, we cannot guarantee that we will be able to do so.

Authority: The authority for this action is the Act (16 U.S.C. 1531 et seq.).

Alexandra Pitts,
Acting Regional Director, Fish and Wildlife Service, Pacific Southwest Region.

[FR Doc. E9-23557 Filed 9-29-09; 8:45 am]

BILLING CODE 4310-55-P